DEPARTMENT OF COMMERCE

National Oceanic and Atmospheric Administration

RIN 0648-XM89

New England Fishery Management Council; Public Meeting

AGENCY: National Marine Fisheries Service (NMFS), National Oceanic and Atmospheric Administration (NOAA), Commerce.

ACTION: Public meeting.

SUMMARY: The New England Fishery Management Council (Council) will hold a three-day Council meeting on February 9-11, 2009 to consider actions affecting New England fisheries in the exclusive economic zone (EEZ).

DATES: The meeting will be held on Monday, February 9 beginning at 9:00 a.m., and Tuesday, February 10 and Wednesday, February 11, beginning at 8:30 a.m.

ADDRESSES: The meeting will be held at the Sheraton Harborside Hotel, 250 Market Street, Portsmouth, NH 03801; telephone: (603) 431-2300; fax: (603) 433-5649. Requests for special accommodations should be addressed to the New England Fishery Management Council, 50 Water Street, Mill 2, Newburyport, MA 01950; telephone (978) 465-0492.

FOR FURTHER INFORMATION CONTACT: Paul J. Howard, Executive Director, New England Fishery Management Council, (978) 465-0492.

SUPPLEMENTARY INFORMATION:

Monday, February 9, 2009

Following introductions and any announcements, the Council will receive a series of brief reports from the Council Chairman and Executive Director, the NOAA Fisheries Northeast Regional Administrator, Northeast Fisheries Science Center and Mid-Atlantic Fishery Management Council liaisons, NOAA General Counsel, representatives of the U.S. Coast Guard and the Atlantic States Marine Fisheries Commission, as well as NOAA Enforcement. Presentations will be will be provided to the Council on the recent Data Poor Stocks Workshop and the Standard Bycatch Reporting Methodology annual report. For the latter, NMFS will solicit recommendations from the Council concerning the prioritization of observer coverage. The Council's Herring Committee will report during the afternoon session and review progress to date on the development of management alternatives for Amendment 4 to the Herring Fishery Management Plan (FMP). The focus of the action is catch monitoring, but measures also will address annual catch limits (ACLs) and accountability measures (AMs).

Tuesday, February 10, 2009

The meeting will begin with a brief overview of the NMFS final rule concerning procedures and voting eligibility requirements for referenda on Individual Fishing Quota program proposals in accordance with the new requirements of the Magnuson-Stevens Act. Time will then be allocated to discuss the NMFS Secretarial Interim Action for the Northeast Multispecies fishery, to be followed by discussion and approval of Draft Amendment 16 to the Northeast Multispecies FMP and it accompanying Environmental Impact Statement for review at public hearings.

Wednesday, February 11, 2009

The last day of the Council meeting will begin with, in the following order, possible consideration and approval of revisions to several Council operating policies, a review of recent experimental fishery permit applications and an open comment period during which any interested party may address the Council about fishery management related issues that are otherwise not listed on the agenda. These items will be followed by an overview of the NMFS final rule containing guidance on how to comply with the new annual catch limit (ACL) and accountability measure (AM) requirements in fishery management plans. Prior to a lunch break, the Council's Scientific and Statistical Committee will provide advice on the adequacy of the analyses that could form the basis of Amendment 3 to the Northeast Skate Complex FMP and Amendment 15 to the Scallop FMP. Council consideration of skate management measures will follow with a decision on whether to develop final alternatives for further consideration by the Council or to develop new management measures, based on the receipt of new as well as updated information. The Scallop Committee will ask the Council for approval of a range of alternatives under consideration for Amendment 15 to the Scallop FMP for purposes of completing the analytical underpinings of the action. The amendment may address excess capacity and other changes to the scallop management program, including essential fish habitat closures and a change to scallop fishing year time frame. Finally, the Council will address any other outstanding business prior to adjournment of its February meeting.

Although other non-emergency issues not contained in this agenda may come before this Council for discussion, those issues may not be the subjects of formal action during this meeting. Council action will be restricted to those issues specifically listed in this notice and any issues arising after publication of this notice that require emergency action under section 305(c) of the Magnuson-Stevens Act, provided that the public has been notified of the Council's intent to take final action to address the emergency.

Special Accommodations

This meeting is physically accessible to people with disabilities. Requests for sign language interpretation or other auxiliary aids should be directed to Paul J. Howard (see ADDRESSES) at least 5 days prior to the meeting date.

Dated: January 21, 2009.
Tracey L. Thompson,
Acting Director, Office of Sustainable Fisheries, National Marine Fisheries Service.

[FR Doc. E9-1560 Filed 1-23-09; 8:45 am]

BILLING CODE 3510-22-S